DEPARTMENT OF TRANSPORTATION

Federal Aviation Administration

14 CFR Part 39

[Docket No. FAA-2022-1419; Project Identifier MCAI-2022-01002-R]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for all Leonardo S.p.a. Model AB139 and AW139 helicopters. This proposed AD was prompted by a report of a damaged tail rotor duplex bearing (TRDB). This proposed AD would require repetitively inspecting certain TRDBs and depending on the results, replacing the TRDB or tail rotor actuator (TRA), or as an option, replacing the sliding control assembly. This proposed AD would also require replacing an affected TRDB with a serviceable TRDB at a specified threshold and prohibit the installation of certain TRDBs or sliding control assemblies on any helicopter, as specified in a European Union Aviation Safety Agency (EASA) AD, which is proposed for incorporation by reference (IBR). The FAA is proposing this AD to address the unsafe condition on these products.

DATES: The FAA must receive comments on this proposed AD by December 27, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1419; or in person at Docket Operations between 9 a.m. and 5 p.m., Monday through Friday, except Federal holidays. The AD docket contains this NPRM, any comments received, and other information. The street address for Docket Operations is listed above.

Material Incorporated by Reference:

• For service information identified in this NPRM, contact EASA, Konrad-Adenauer-Ufer 3, 50668 Cologne, Germany; phone: +49 221 8999 000; email: ADs@easa.europa.eu. You may find this material on the EASA website at ad.easa.europa.eu.

• You may view this service information at the FAA, Office of the Regional Counsel, Southwest Region, 10101 Hillwood Pkwy., Room 6N-321, Fort Worth, TX 76177. For information on the availability of this material at the FAA, call (817) 222-5110.

FOR FURTHER INFORMATION CONTACT: Dan McCully, Program Manager, COS Program Management Section, Operational Safety Branch, Compliance & Airworthiness Division, FAA, 1701 Columbia Ave., Mail Stop: ACO, College Park, GA 30337; telephone (404) 474-5548; email william.mccully@faa.gov.

SUPPLEMENTARY INFORMATION:

Comments Invited

The FAA invites you to send any written relevant data, views, or arguments about this proposal. Send your comments to an address listed under ADDRESSES. Include “Docket No. FAA-2022-1419; Project Identifier MCAI-2022-01002-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan McCully, Program Manager, COS Program Management Section, Operational Safety Branch, Compliance & Airworthiness Division, FAA, 1701 Columbia Ave., Mail Stop: ACO, College Park, GA 30337; telephone (404) 474-5548; email william.mccully@faa.gov. Any commentary that the FAA receives that is not specifically designated as CBI will be placed in the public docket for this rulemaking.

Background

EASA, the Technical Agent for the Member States of the European Union, issued a series of ADs, with the most recent being EASA Emergency AD 2022-0182-E, dated August 30, 2022 (EASA AD 2022-0182-E), to correct an unsafe condition for all serial-numbered Leonardo S.p.A. Helicopters, formerly Finmeccanica S.p.A, AgustaWestland S.p.A., Agusta S.p.A.; and AgustaWestland Philadelphia Corporation, formerly Agusta Aerospace Corporation, Model AB139 and AW139 helicopters. EASA AD 2022-0182-E defines the “affected part” as TRDB part number (P/N) 3G6430V00151, P/N 3G6430V00152, and P/N 3G6430V00153, the “affected TRA” as TRA P/N 3G6730V00731 and P/N 3G6730V00732, and the “affected assembly” as sliding control assembly P/N 3G6430A02531. EASA initially issued EASA AD 2022-0152-E, dated July 26, 2022, which was superseded by EASA AD 2022-0182-E.

This proposed AD was prompted by a report of a damaged TRDB. According to EASA, after an investigation, it was determined that the TRDB had been removed from a sliding control assembly and reinstalled on another sliding control assembly, even though Aircraft Maintenance Programme procedures do not allow reinstallation of a removed TRDB. The FAA is proposing this AD to ensure the proper installation of a TRDB and prevent a TRDB from remaining in service beyond its life limit. See EASA AD 2022-0182-E for additional background information.

Related Service Information Under 1 CFR Part 51

EASA AD 2022-0182-E requires repetitively inspecting certain affected parts, and depending on the results, replacing the affected part with a serviceable part, and for certain conditions, replacing the affected TRA or sliding control assembly, as defined therein. EASA AD 2022-0182-E also requires replacing affected parts with serviceable parts at specified thresholds. EASA AD 2022-0182-E also prohibits the installation of certain TRDBs or sliding control assemblies on any helicopter.

This material is reasonably available because the interested parties have access to it through their normal course of business or by the means identified in the ADDRESSES section.

Other Related Service Information

The FAA also reviewed Leonardo Helicopters Emergency Alert Service Bulletin No. 139-725, Revision A, dated August 9, 2022 (EASB 139-725 Rev A). EASB 139-725 Rev A specifies procedures for inspecting for rotation between the trunnion and pitch control rod, and applying slippage marks; inspecting the visible areas of the TRDB (including seals) for wear, damages, corrosion, particles, grease leakage, grease leakage particles (including magnetic/metallic particles), and roughness in its movement, and accomplishing a TRDB operational test. Finally, EASB 139-725 Rev A specifies procedures for replacing a TRDB and TRA, discarding the removed TRDB, and sending certain photos and information to Leonardo S.p.A.

FAA's Determination

These helicopters have been approved by EASA and are approved for operation in the United States. Pursuant to the FAA's bilateral agreement with the European Union, EASA has notified the FAA about the unsafe condition described in its emergency AD. The FAA is proposing this AD after evaluating all known relevant information and determining that the unsafe condition described previously is likely to exist or develop on other helicopters of the same type designs.

Proposed AD Requirements in This NPRM

This proposed AD would require accomplishing the actions specified in EASA AD 2022-0182-E, described previously, as incorporated by reference, except for any differences identified as exceptions in the regulatory text of this proposed AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2022-0182-E by reference in the FAA final rule. This proposed AD would, therefore, require compliance with EASA AD 2022-0182-E in its entirety through that incorporation, except for any differences identified as exceptions in the regulatory text of this proposed AD. Using common terms that are the same as the heading of a particular section in EASA AD 2022-0182-E does not mean that operators need comply only with that section. For example, where the AD requirement refers to “all required actions and compliance times,” compliance with this AD requirement is not limited to the section titled “Required Action(s) and Compliance Time(s)” in EASA AD 2022-0182-E. Service information referenced in EASA AD 2022-0182-E for compliance will be available at regulations.gov by searching for and locating Docket No. FAA-2022-1419 after the FAA final rule is published.

Costs of Compliance

The FAA estimates that this AD, if adopted as proposed, would affect 80 helicopters of U.S. Registry. Labor rates are estimated at $85 per work-hour. Based on these numbers, the FAA estimates the following costs to comply with this proposed AD.

Inspecting the TRDB would take up to about 12 work-hours and parts would cost about $100 for an estimated cost of up to $1,120 per helicopter and $89,600 for the U.S. fleet, per inspection cycle. If required, replacing a TRDB would take about 3 additional work-hours and parts would cost about $2,100, for an estimated cost of $2,355 per helicopter. Replacing a TRA would take about 2 additional work-hours and parts would cost about $42,802, for an estimated cost of $42,972 per helicopter. Alternatively, replacing the sliding control assembly would take about 6 work-hours and parts would cost about $11,500, for an estimated cost of $12,010 per helicopter.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2022-1419; Project Identifier MCAI-2022-01002-R.

(a) Comments Due Date

The FAA must receive comments on this airworthiness directive (AD) by December 27, 2022.

(b) Affected ADs

None.

(c) Applicability

This AD applies to Leonardo S.p.a. Model AB139 and AW139 helicopters, certificated in any category.

(d) Subject

Joint Aircraft Service Component (JASC) Code: 6400, Tail Rotor System.

(e) Unsafe Condition

This AD was prompted by a report of a damaged tail rotor duplex bearing (TRDB) that was improperly installed on a sliding control assembly. The FAA is issuing this AD to ensure the proper installation of a TRDB and prevent a TRDB from remaining in service beyond its life limit. The unsafe condition, if not detected and corrected, could lead to structural failure of the TRDB, possibly resulting in loss of control of the helicopter.

(f) Compliance

Comply with this AD within the compliance times specified, unless already done.

(g) Requirements

Except as specified in paragraphs (h) and (i) of this AD: Comply with all required actions and compliance times specified in, and in accordance with, European Union Aviation Safety Agency (EASA) Emergency AD 2022-0182-E, dated August 30, 2022 (EASA AD 2022-0182-E).

(h) Exceptions to EASA AD 2022-0182-E

(1) Where EASA AD 2022-0182-E requires compliance in terms of flight hours, this AD requires using hours time-in-service (TIS).

(2) Where EASA AD 2022-0182-E refers to July 28, 2022 (the effective date of EASA AD 2022-0152-E, dated July 26, 2022) and its effective date, this AD requires using the effective date of this AD.

(3) Where the service information referenced in EASA AD 2022-0182-E specifies discarding certain parts, this AD requires removing those parts from service.

(4) Where the service information referenced in EASA AD 2022-0182-E specifies returning a part to the manufacturer, this AD does not require that action.

(5) The “Remarks” section of EASA AD 2022-0182-E does not apply to this AD.

(i) No Reporting Requirement

Although the service information referenced in EASA AD 2022-0182-E specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Additional Information

(1) Refer to EASA AD 2022-0182-E for related information. This EASA AD may be found in the AD docket at regulations.gov under Docket No. FAA-2022-1419.

(2) For more information about this AD, contact Dan McCully, Program Manager, COS Program Management Section, Operational Safety Branch, Compliance & Airworthiness Division, FAA, 1701 Columbia Ave., Mail Stop: ACO, College Park, GA 30337; telephone (404) 474-5548; email william.mccully@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) European Union Aviation Safety Agency (EASA) Emergency AD 2022-0182-E, dated August 30, 2022.

(ii) Reserved.

(3) For EASA AD 2022-0182-E, contact EASA, Konrad-Adenauer-Ufer 3, 50668 Cologne, Germany; phone: +49 221 8999 000; email: ADs@easa.europa.eu. You may find this material on the EASA website at ad.easa.europa.eu.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on November 3, 2022.
Christina Underwood,
Acting Director, Compliance & Airworthiness Division, Aircraft Certification Service.

[FR Doc. 2022-24430 Filed 11-9-22; 8:45 am]

BILLING CODE 4910-13-P